DEPARTMENT OF COMMERCE

National Oceanic and Atmospheric Administration

50 CFR Part 648

[Docket No. 030514123-3162-02; I.D. 041003B]

RIN 0648-AQ76

Fisheries of the Northeastern United States; Northeast Multispecies Fishery; Framework Adjustment 38 to the Northeast Multispecies Fishery Management Plan; Correcting Amendment

AGENCY: National Marine Fisheries Service (NMFS), National Oceanic and Atmospheric Administration (NOAA), Commerce.

ACTION: Final rule; correcting amendment.

SUMMARY: NMFS issued a final rule to implement measures contained in Framework Adjustment 38 (Framework 38) to the Northeast (NE) Multispecies Fishery Management Plan (FMP) to exempt a fishery from the Gulf of Maine (GOM) Regulated Mesh Area mesh size regulations. The final rule implementing Framework 38 was published in the Federal Register on July 9, 2003. One of the coordinates contained in the Gulf of Maine (GOM) Grate Raised Footrope Trawl Whiting Fishery Exemption Area table is incorrect. This document corrects that error.

DATES: This regulation is effective July 25, 2003.

FOR FURTHER INFORMATION CONTACT: E. Martin Jaffe, Fishery Policy Analyst, 978-281-9272.

SUPPLEMENTARY INFORMATION:

Need for the Correction

The final rule implementing measures contained in Framework 38 to the FMP was published in the Federal Register on July 9, 2003 (68 FR 40810), and became effective on the date of publication. The North Latitude coordinate for Point GRF5 (44° 58.5′) in the table, GOM Grate Raised Footrope Trawl Whiting Fishery Exemption Area, contained in § 648.80(a)(16), is incorrect. The correct North Latitude coordinate for Point GRF5 is 43° 58.8′.

When the Council voted to include the ocean area adjacent to the original experimental fishery area because of its similarity to the area in which the experimental fishery took place, it incorrectly listed the GRF5 decimal point reference as 44.98 N. Latitude in the EA. This point reference should have been 43.98 N. Latitude, which converts to the geographic coordinates equivalent of 43 58.8'. While substitution of the correct geographic coordinates for Point GRF5 does not change the seaward boundaries of the fishing area, it removes the erroneous landward extension of the fishing area north from the shoreline.

Therefore, because the final rule published on July 9, 2003, which was the subject of FR Doc. 03-17106, contained an incorrect coordinate in the table contained in § 648.80(a)(16), on page 40810, in the third column, in the table contained in § 648.80(a)(16), second column under “N. Lat.”, the last coordinate, “44° 58.5′” is removed, and in its place “43° 58.8′” is added.

This document corrects the table under § 648.80(a)(16) as follows:

List of Subjects in 50 CFR Part 648

Fishing, Fisheries, Reporting and recordkeeping requirements.

For the reasons stated in the preamble, 50 CFR part 648 is correctly amended to read as follows:

PART 648—FISHERIES OF THE NORTHEASTERN UNITED STATES

1. The authority citation for 50 CFR part 648 continues to read as follows:

Authority: 16 U.S.C. 1801 et seq.

2. In § 648.80, the table contained in paragraph (a)(16) is corrected to read as follows:

§ 648.80 Multispecies regulated mesh areas and restrictions on gear and methods of fishing.

(a) * * *

(16) * * *

GOM GRATE RAISED FOOTROPE TRAWL WHITING FISHERY EXEMPTION AREA
(July 1 through November 30)
Point N. | Lat.W. | Long.
GRF1 | 43° 15′ | 70° 35.4′
GRF2 | 43° 15′ | 70° 00′
GRF3 | 43° 25.2′ | 70° 00′
GRF4 | 43° 41.8′ | 69° 20′
GRF5 | 43° 58.8′ | 69° 20′

Dated: July 18, 2003.
John Oliver,
Deputy Assistant Administrator for Operations, National Marine Fisheries Service.

[FR Doc. 03-18894 Filed 07-24-03; 8:45 am]

BILLING CODE 3510-22-S